OFFICE OF PERSONNEL MANAGEMENT

Submission for Review: Generic Clearance for Collection of Feedback on Agency Service Delivery

AGENCY: Office of Personnel Management.

ACTION: 30-Day notice of proposed collection and request for comments.

SUMMARY: The Office of Personnel Management (OPM) offers the general public and other Federal agencies the opportunity to comment on a proposed collection of information by the Agency. This process is conducted in accordance with agency regulations and is part of OPM's effort to streamline the process to collect feedback from the public to support ongoing customer experience improvement efforts. OPM will seek feedback from users or possible users of OPM's various customer services.

DATES: Comments are encouraged and will be accepted until July 10, 2025.

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: A copy of this information collection request, with applicable supporting documentation, may be obtained by contacting the Office of the Chief Financial Officer, Office of Personnel Management, 1900 E Street NW, Washington, DC 20415, Attention: David Long, via phone at 202-606-1918 or via electronic mail to evidence@opm.gov.

SUPPLEMENTARY INFORMATION: Under the Paperwork Reduction Act (PRA) (44 U.S.C. 3501-3520), Federal agencies must obtain approval from the Office of Management and Budget (OMB) for each collection of information they conduct or sponsor. “Collection of information” is defined in 44 U.S.C. 3502(3) and 5 CFR 1320.3(c) and includes Agency requests or requirements that members of the public submit reports, keep records, or provide information to a third party.

Section 3506(c)(2)(A) of the PRA requires Federal Agencies to provide a 60-day notice in the Federal Register concerning each proposed collection of information, including each proposed extension of an existing collection of information, before submitting the collection to OMB for approval. A 60-day notice for this collection was published in the Federal Register on December 17, 2024. 89 FR 102171. One comment was received for this information collection; but, as it dealt with foreign missions, it is out of scope for this collection.

The proposed information collection will seek customer and stakeholder feedback in an efficient manner to enable continued, timely customer experience improvements. This feedback will provide insights into customer and/or stakeholder experiences, expectations, and perceptions of interactions with OPM services. The feedback will also serve to highlight areas that may require immediate changes. These collections will streamline OPM's customer experience improvement efforts by allowing for ongoing, actionable communication between OPM and its customers. If this information is not collected, timely, vital feedback will continue to be very difficult to obtain and will impact the success of OPM's ongoing customer service improvements.

These data collection efforts will solicit feedback on a variety of focus areas for OPM's customer services, including topics such as, accuracy, ease of access/use of a particular service mechanism, understanding and success of utilizing a tool or service provided by OPM, effectiveness, efficiency of services accessed, and whether or not a service met expectations. Responses will be analyzed to inform quality improvements or to maintain high-quality, effective services.

Collections may be either qualitative or quantitative in nature. Collections will provide information on perceptions and opinions but will not collect information that will yield quantitative results that can be generalized to the population of study. Additionally, data may be collected via a variety of means, including but not limited to, questionnaires, surveys, interviews, and focus groups. OPM will collect this information by electronic means when possible, as well as by mail and telephone. OPM will limit its inquiries to data collections that solicit strictly voluntary opinions or responses. Steps will be taken to ensure anonymity of respondents in each activity covered by this request. As a general matter, information collections under this clearance will not result in any new system of records containing privacy information.

Types of collections included in this generic clearance include, but are not limited to,

—Program/event/training surveys;

—Focus groups or interviews with customers, potential customers, or OPM partners;

—Call center surveys;

—Post-transaction satisfaction surveys;

—Collection of test and pilot data; and

—Web-based opt-in and opt-out pop-up surveys.

OPM will submit collections for approval under this generic clearance only if the collections meet the following conditions:

—The collections are voluntary;

—The collections are low-burden (based on considerations of total burden hours, total number of respondents, or burden-hours per respondent) and are low-cost for both the respondents and the Federal Government;

—Personally identifiable information (PII) is collected only to the extent necessary and is not retained;

—The collections are noncontroversial;

—Information gathered will not be used for the purpose of substantially informing influential policy decisions; and

—The collections will not be designed or expected to yield results that are generalizable to the population of study.

Analysis

Agency: Office of Personnel Management.

Title: Generic Clearance for Collection of Feedback on Agency Service Delivery.

OMB Number: 3206-NEW.

Frequency: Annual, once per respondent.

Affected Public: Individuals.

Number of Respondents Annually: 283,250.

Estimated Time per Respondent: 2.756 minutes.

Total Annual Burden Hours: 13,010.

Office of Personnel Management
Alexy Stanley,
Federal Register Liaison.

[FR Doc. 2025-10402 Filed 6-9-25; 8:45 am]

BILLING CODE 6325-43-P